ENVIRONMENTAL PROTECTION AGENCY

[FRL-6902-1]

National Drinking Water Advisory Council Research Working Group; Notice of Public Meeting

AGENCY: Environmental Protection Agency.

ACTION: Notice of public meeting.

Under section 10(a)(2) of Public Law 92-423, “The Federal Advisory Committee Act,” notice is hereby given that a meeting of the Drinking Water Research Working Group of the National Drinking Water Advisory Council (NDWAC) established under the Safe Drinking Water Act, as amended (42 U.S.C. S300f et seq.), will be held on November 28-29, 2000. On November 28 the meeting will be held from 8:30 am-5 pm ET (approximately), at RESOLVE, 1255 23rd Street, NW., Suite 275, Washington, DC 20037. On November 29 the meeting will be held, from 8:30 an-3:30 pm ET (approximately), at the Environmental Protection Agency's Washington Information Center (WIC), 401 M Street, SW., Conference Room #3 North Washington, DC 20460. The meeting will be open to the public to observe and statements will be taken from the public as time allows. Seating is limited.

This is the first meeting of the Drinking Water Research Working Group. The Environmental Protection Agency (EPA) anticipates 3-4 meetings of this working group over the course of the next year. The purpose of this working group will be to provide advice to NDWAC as it develops recommendations for EPA on a Comprehensive Drinking Water Research Strategy (as required under the Safe Drinking Water Act) that will consider a broad range of research needs to support the Agency's drinking water regulatory activities. The research strategy will include an assessment of research needs for microbes and disinfection by-products (M/DBPs), arsenic, contaminants on the Contaminant Candidate List (CCL), and other critical research issues. This first meeting will focus on the proposed approach for developing the Comprehensive Drinking Water Research Strategy. Specifically, the working group will discuss the outline of the strategy, the scientific framework upon which it is organized, and the list of topics to be included.

For more information please contact Paula Mason, Designated Federal Officer, U.S. EPA (4607), Office of Ground Water and Drinking Water, 1200 Pennsylvania Avenue, NW., Washington, DC 20460. The telephone number is 202-260-1893, fax 202-401-6135, and e-mail mason.paula@epa.gov.

Dated: November 7, 2000.
Charlene E. Shaw,
Designated Federal Officer, National Drinking Water Advisory Council.

[FR Doc. 00-29227 Filed 11-14-00; 8:45 am]

BILLING CODE 6560-50-P